NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 13, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. Fax: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, National Oceanic and Atmospheric Administration (N1-370-04-1, 35 items, 33 temporary items). Records of the Office of Climate, Water and Weather Services. Included are such records as system change request files, requirements documents, facility operation logs, national hydrologic information summaries, region survey reports, and electronic copies of records created using electronic mail and word processing. Also included are electronic data, system documentation, inputs, and outputs associated with electronic systems that relate to storms and severe weather. Proposed for permanent retention are recordkeeping copies of marine service charts and service assessment reports.

2. Department of Commerce, Bureau of Industry and Security (N1-476-04-1, 16 items, 14 temporary items). Records accumulated by the Office of Antiboycott Compliance, including such records as investigative case files, settlement files, compliance manuals, foreign boycott public comments, country files, export award files, and working papers. Also included are electronic copies of records created using electronic mail and word processing. Proposed for permanent retention are recordkeeping copies of antiboycott subject files and the division director's subject correspondence files.

3. Department of Commerce, Bureau of Industry and Security (N1-476-04-2, 4 items, 3 temporary items). Country files, chronological files, and electronic copies of records created using electronic mail and word processing accumulated by the Office of the Assistant Secretary for Export Enforcement. Proposed for permanent retention are recordkeeping copies of the Assistant Secretary's subject files.

4. Department of Homeland Security, Transportation Security Administration (N1-560-03-7, 37 items, 35 temporary items). Records relating to aviation operations, including such files as customer service records, statistical reports, policy and planning files, and records relating to screening passengers, baggage, and cargo. Also included are electronic copies of records created using electronic mail and word processing. Proposed for permanent retention are recordkeeping copies of records documenting the organization and functions of agency components involved in aviation operations and records relating to major incidents. This schedule authorizes the agency to apply the proposed disposition instructions to records in all media.

5. Department of Homeland Security, U.S. Coast Guard (N1-26-04-3, 2 items, 2 temporary items). Paper and electronic copies of navigation data recorded by vessels underway which are used as navigational aids by Coast Guard vessels.

6. Department of Justice, Drug Enforcement Administration (N1-170-04-2, 5 items, 5 temporary items). Files relating to periodic inspections of agency offices and programs, including electronic copies of records created using electronic mail and word processing.

7. Department of Justice, Drug Enforcement Administration (N1-170-04-3, 10 items, 10 temporary items). Inputs, electronic data, outputs, and system documentation associated with an electronic system used for information collected from controlled substance manufacturers. Also included are electronic copies of records created using electronic mail and word processing.

8. Department of Justice, Drug Enforcement Administration (N1-170-04-6, 6 items, 6 temporary items). Inputs, electronic data, outputs, and system documentation associated with an electronic system that allows participating law enforcement entities to determine whether a particular suspect is the subject of a drug investigation by any other participating law enforcement entity. Also included are electronic copies of documents created using electronic mail and word processing.

9. Department of State, Bureau of Political-Military Affairs (N1-59-04-4, 8 items, 8 temporary items). Records associated with an electronic system used to manage and process munitions export applications. Included are paper and electronic arms export case files, which are used as inputs, outputs, master files, and system documentation.

10. Department of State, Bureau of Intelligence and Research (N1-59-04-5, 5 items, 2 temporary items). Electronic copies of records created using electronic mail and word processing that are associated with program files, logs, and reports on significant intelligence items received overnight or on weekends. Recordkeeping copies of these files are proposed for permanent retention.

11. Department of the Treasury, Internal Revenue Service (N1-58-04-3, 2 items, 2 temporary items). Correspondence from the public received by the Commissioner.

12. Department of the Treasury, Internal Revenue Service (N1-58-04-4, 5 items, 5 temporary items). Records relating to collection statute expiration date extension extracts, including individual and business tax return closed accounts for which no unpaid balance is due, and an electronic system used to control and track the collection process.

13. Department of the Treasury, Bureau of Engraving and Printing (N1-318-04-25, 16 items, 16 temporary items). Records relating to management control and accountability, including such records as internal and external audit reviews, management studies, and electronic corrective action tracking records. Also included are electronic copies of records created using electronic mail and word processing.

14. Executive Office of the President, Office of Management and Budget (N1-51-04-1, 2 items, 2 temporary items). Electronic records created using the agency's collaborative authoring tool, a computer support collaborative work environment that allows two or more individuals to create documents together. Records needed for the operation of the collaborative authoring tool are also included. The disposition of recordkeeping copies of records produced using the tool will be carried out in accordance with existing agency records schedules.

15. Tennessee Valley Authority, Chief Operating Officer (N1-142-04-1, 3 items, 3 temporary items). Records relating to the development of the Pipeline Electric Drive Compression Project. Also included are electronic copies of documents created using electronic mail and word processing.

16. Tennessee Valley Authority, Communications and Government Relations (N1-142-04-7, 4 items, 3 temporary items). Database containing copies of a newsletter which consists of brief articles of interest to agency staff and customers. Also included are electronic copies of documents created using electronic mail and word processing. Recordkeeping copies of the newsletter are proposed for permanent retention.

Dated: July 19, 2004.
Michael J. Kurtz,
Assistant Archivist for Records Services—Washington, DC.

[FR Doc. 04-17151 Filed 7-27-04; 8:45 am]

BILLING CODE 7515-01-P u